DEPARTMENT OF COMMERCE

National Oceanic and Atmospheric Administration

50 CFR Part 622

[I.D. 110705B]

South Atlantic Fishery Management Council; Public Hearings

AGENCY: National Marine Fisheries Service (NMFS), National Oceanic and Atmospheric Administration, Commerce.

ACTION: Proposed rule; additional public hearing.

SUMMARY: The South Atlantic Fishery Management Council (Council) will hold an additional public hearing in Key West, Florida for Amendment 13C to the Snapper Grouper Fishery Management Plan. The additional hearing is being added to accommodate those recently impacted by Hurricane Wilma. Earlier public hearings have been noticed. A total of 11 public hearings regarding Amendment 13C will be held. Amendment 13C is intended to eliminate or phase out overfishing of snowy grouper, golden tilefish, vermilion snapper, and black sea bass; and increase red porgy harvest consistent with an updated stock assessment.

DATES: The additional public hearing will be held November 28, 2005, beginning at 6 p.m.

Written comments must be received in the Council office by close of business on November 28, 2005.

ADDRESSES: The hearing will be held at the Key West Hilton Resort and Marina, 245 Front Street, Key West, FL 33040; Phone; 305/294-4000.

Written comments should be sent to Bob Mahood, Executive Director, South Atlantic Fishery Management Council, One Southpark Circle, Suite 306, Charleston, SC 29407-4699, or via email to snappergroupercomments@safmc.net.

Copies of the public hearing document are available from Kim Iverson, South Atlantic Fishery Management Council, One Southpark Circle, Suite 306, Charleston, SC 29407-4699; telephone: 843-571-4366 or toll free at 866/SAFMC-10.

FOR FURTHER INFORMATION CONTACT: Kim Iverson, South Atlantic Fishery Management Council, One Southpark Circle, Suite 306, Charleston, SC 29407-4699; telephone: 843-571-4366; fax: 843-769-4520; email address: kim.iverson@safmc.net.

SUPPLEMENTARY INFORMATION:

Special Accommodations

These meetings are physically accessible to people with disabilities. Requests for sign language interpretation or other auxiliary aids should be directed to the Council office (see ADDRESSES) three days prior to the meeting.

Dated: November 7, 2005.
Alan D. Risenhoover,
Acting Director, Office of Sustainable Fisheries, National Marine Fisheries Service.

[FR Doc. 05-22551 Filed 11-10-05; 8:45 am]

BILLING CODE 3510-22-S